NATIONAL AERONAUTICS AND SPACE ADMINISTRATION

[10-083]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Brenda J. Maxwell, Office of the Chief Information Officer, Mail Suite 2S71, National Aeronautics and Space Administration, Washington, DC 20546-0001.

FOR FURTHER INFORMATION CONTACT: Requests for additional information or copies of the information collection instrument(s) and instructions should be directed to Brenda J. Maxwell, Office of the Chief Information Officer, NASA Headquarters, 300 E Street, SW., Mail Suite 2S71, Washington, DC 20546, (202) 358-4616, brenda.maxwell@nasa.gov.

SUPPLEMENTARY INFORMATION:

I. Abstract

NASA Langley Research Center has a need to baseline employees' work environment. The intent is to use a valid and reliable survey that can assess employees' (both civil servants and on-site contractors) perceptions of their current work environment. The results of the survey will establish a baseline and provide general themes on areas to focus on in order to enhance creativity and innovation at the Center.

II. Method of Collection

Electronic.

III. Data

Title: The KEYS Creativity and Innovation Survey.

OMB Number: 2700-XXXX.

Type of Review: Regular.

Affected Public: Individuals and household.

Estimated Number of Respondents: 1000.

Estimated Time per Response: 30 minutes.

Estimated Total Annual Burden Hours: 500.

Estimated Total Annual Cost: $0.

IV. Requests for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Brenda J. Maxwell,
NASA PRA Clearance Officer.

[FR Doc. 2010-17566 Filed 7-16-10; 8:45 am]

BILLING CODE P